DEPARTMENT OF HOMELAND SECURITY

United States Secret Service

Proposed Information Collection

ACTION: 60 Day Notice of proposed information collection.

SUMMARY: The U.S. Department of Homeland Security, Office of the Chief Information Officer, invites comments on the proposed information collection request as required by the Paperwork Reduction Act of 1995. Currently, the U.S. Secret Service, within the U.S. Department of Homeland Security is soliciting comments concerning the SSF 86A, Supplemental Investigative Data.

DATES: Interested persons are invited to submit comments on or before December 7, 2010.

ADDRESSES: Direct all written comments to United States Secret Service, Security Clearance Division, Attn: Althea Washington, Personnel Security Branch, 950 H St., NW., Washington, DC 20223, Suite 3800, 202-406-5975. Individuals who use a telecommunications device for the deaf (TDD) may either call the Federal Information Relay Service (FIRS) at 1-800-877-8339 or call directly (TTY) 202-406-5390.

FOR FURTHER INFORMATION CONTACT: Requests for additional information or copies of the form(s) and instructions should be directed to: United States Secret Service, Security Clearance Division, Attn: Robin DeProspero, Security Clearance Division, 950 H Street, NW., Washington, DC 20223. Telephone number: 202-406-6658.

SUPPLEMENTARY INFORMATION: Section 3506 of the Paperwork Reduction Act of 1995 (44 U.S.C. Chapter 35) requires each Federal agency to provide interested Federal agencies and the public an early opportunity to comment on information collection requests. The notice for this proposed information collection contains the following: (1) The name of the component of the U.S. Department of Homeland Security; (2) Type of review requested, e.g. new, revision, extension, existing or reinstatement; (3) OMB Control Number, if applicable; (4) Title; (5) Summary of the collection; (6) Description of the need for, and proposed use of, the information; (7) Respondents and frequency of collection; and (8) Reporting and/or Recordkeeping burden. The Department of Homeland Security invites public comment.

The Department of Homeland Security is especially interested in public comment addressing the following issues: (1) Is this collection necessary to the proper functions of the Department, including whether the information will have practical utility; (2) Is the estimate of burden for this information collection accurate; (3) How might the Department enhance the quality, utility, and clarity of the information to be collected; and (4) How might the Department minimize the burden of this collection on the respondents, including through the use of information technology.

Abstract: Respondents are all Secret Service applicants. These applicants, if approved for hire, will require a Top Secret Clearance, and possible SCI Access. Responses to questions on the SSF 86A yields information necessary for the adjudication for eligibility of the clearance, as well as ensuring that the applicant meets all internal agency requirements.

Agency: United States Secret Service.

Title: Supplemental Investigative Data.

OMB Control Number: 1620-0001.

Form Number: SSF 86A.

Frequency: Occasionally.

Type of Review: Extension of a currently approved collection.

Affected Public: Individuals.

Reporting and Recordkeeping Hour Burden:

Responses: 10,000.

Burden Hours: 30,000.

Billing Code: 4810-42.

Dated: October 5, 2010.
Sharon Johnson,
Chief—Policy Analysis and Organizational Development Branch, U.S. Secret Service, U.S. Department of Homeland Security.

[FR Doc. 2010-25413 Filed 10-7-10; 8:45 am]

BILLING CODE 4810-42-P